DEPARTMENT OF HEALTH AND HUMAN SERVICES

Administration for Children and Families

[CFDA#: 93.604]

Office of Refugee Resettlement

AGENCY: Office of Refugee Resettlement, ACF, DHHS.

ACTION: Notice of a Noncompetitive Successor Award to Utah Health and Human Rights Service for Grant Number 90ZT0059.

Legislative Authority: “Torture Victims Relief Act (TVRA) of 1998,” Public Law 105-320 (22 U.S.C. 2152 note), reauthorized by Public Law 109-165 in January 2006. Section 5(a) of the law provides: Assistance for Treatment of Torture Victims—The Secretary of Health and Human Services may provide grants to programs in the United States to cover the cost of the following services: (1) Services for the rehabilitation of victims of torture, including treatment of the physical and psychological effects of torture. (2) Social and legal services for victims of torture. (3) Research and training for health care providers outside of treatment centers, or programs for the purpose of enabling such providers to provide the services described in paragraph (1).

Amount of Award: Remainder of current budget period February 1, 2009 through September 29, 2009. Award $152,405. Final budget period of the originally approved three-year project period September 30, 2008 through September 29, 2009.

Project Period: February 1, 2009-September 29, 2009.

Summary: In FY 2006, ORR awarded a competitive Services for Survivors of Torture grant to the Tides Center/Utah Health and Human Rights Project in Salt Lake City, Utah. The original project period was from September 30, 2006 through September 29, 2009. The Tides Center served as fiscal sponsor and legal entity of the approved project. The Tides Center provides essential financial, human resources, and administrative services to philanthropic projects such as the Utah Health and Human Rights Project (UHHRP) while enabling them to become independent agencies. UHHRP has now completed the process of becoming an independent agency and is formally separating from the Tides Center on January 31, 2009. The Tides Center has requested permission for UHHRP to assume the grant. UHHRP has agreed to this request and will continue to function with the scope and operations of the grant remaining unchanged.

Contact for Further Information: Ronald Munia, Director, Division of Community Resettlement, Office of Refugee Resettlement, 370 L'Enfant Promenade, SW., Washington, DC 20447. Telephone: 202-401-4559. E-mail: Ronald.Munia@acf.hhs.gov.

Dated: March 3, 2009.
Ronald Munia,
Director, Division of Community Resettlement, Office of Refugee Resettlement.

[FR Doc. E9-4922 Filed 3-6-09; 8:45 am]

BILLING CODE 4184-01-P